ENVIRONMENTAL PROTECTION AGENCY

[9919-45-OAR]

Technical Research Workshop Supporting EPA and NHTSA Phase 2 Standards for MD/HD Greenhouse Gas and Fuel Efficiency

AGENCY: Environmental Protection Agency (EPA).

ACTION: Notice of public workshop.

SUMMARY: EPA and NHTSA are sponsoring a technical workshop on December 10 and 11, 2014, at Southwest Research Institute (SwRI) in San Antonio, Texas. SwRI researchers will present technical work completed under the direction of EPA and NHTSA to assist in developing Phase 2 medium- and heavy-duty GHG and fuel efficiency standards.

DATES: The workshop will be held at Southwest Research Institute December 10 and 11, 2014.

ADDRESSES: The workshop will be held at Southwest Research Institute, 6220 Culebra Road, San Antonio, Texas 78238, 210-684-5111. A complimentary shuttle will be provided to and from Courtyard by Marriott San Antonio SeaWorld/Westover Hills, 11605 State Hwy 151, San Antonio, TX 78251, (210) 509-3700.

FOR FURTHER INFORMATION CONTACT: Houshun Zhang, Office of Transportation and Air Quality, U.S. Environmental Protection Agency, (734) 214-4214. zhang.houshun@epa.gov.

SUPPLEMENTARY INFORMATION: EPA and NHTSA are sponsoring a technical workshop on December 10 and 11, 2014, at Southwest Research Institute (SwRI) in San Antonio, Texas. SwRI researchers will present technical work completed under the direction of EPA and NHTSA to assist in developing Phase 2 medium- and heavy-duty GHG and fuel efficiency standards.

This technical work includes testing conducted over-the-road and on heavy-duty chassis dynamometers, powertrain test cells, and engine test cells. This work has been conducted to advance test procedure development and validate refinements that agencies have been considering for the greenhouse gas emissions model (GEM) used for heavy-duty vehicle certification. Aerodynamic tractor testing via both coast-down and constant-speed test procedures will also be presented, in addition to results from recent heavy-duty engine and vehicle technology modeling. SwRI will also describe simulation studies to look at the potential fuel saving performance of numerous MD/HD engine and vehicle technologies.

This workshop will not include discussion of policy considerations such as Phase 2 program stringency or program structure. Rather, this workshop is an opportunity for interested stakeholders and individuals to learn more about recent EPA and NHTSA sponsored technical research, to engage directly with the SwRI researchers who have been conducting this work, and to provide initial feedback on work conducted to date.

All interested parties are welcome to attend. See http://epa.gov/otaq/climate/regs-heavy-duty.htm for the agenda, schedule, and information regarding online registration. There is no registration fee.

Dated: November 12, 2014.
Christopher Grundler,
Director, Office of Transportation and Air Quality, Office of Air and Radiation.

[FR Doc. 2014-27638 Filed 11-20-14; 8:45 am]

BILLING CODE 6560-50-P